DEPARTMENT OF ENERGY

Bonneville Power Administration

Opportunity for Public Comment: Bonneville Power Administration Provider of Choice Draft Policy

AGENCY: Bonneville Power Administration (BPA), Department of Energy (DOE).

ACTION: Notice of provider of choice draft policy and opportunity for public comment.

SUMMARY: As part of its Provider of Choice effort, BPA is publishing a draft policy that describes the agency's long-term power sales marketing approach for the period following the expiration of existing long-term power sales contracts on September 30, 2028. The draft policy describes the agency's products and service offerings for this next contract period and how the agency proposes to distribute the costs and benefits from its system of federal resources, which includes the Federal Columbia River Power System, the Columbia Generating Station, as well as non-federal resources and short-term purchases of power power from the spot market. BPA expects to release the final policy and record of decision in early calendar year 2024, once all public comments have been reviewed. Following finalization of the policy, BPA will undertake a follow-on process to implement the policy through negotiation and development of contracts with the goal to offer and execute new long-term contracts by late 2025. Bonneville will use the time between contract signing and the start of power deliveries on October 1, 2028, to ready systems to ensure a smooth transition between contracts.

DATES: Public comments will be accepted through October 13, 2023. BPA will hold a public meeting to present the draft policy on July 26, 2023, and a public meeting to answer clarifying questions on August 1, 2023.

ADDRESSES: Written comments must be received by October 13, 2023 to be considered in the final policy and Administrator's Record of Decision (ROD). Comments can be submitted on-line at https://publiccomments.bpa.gov/ or mailed to: BPA, P.O. Box 14428, Portland, OR 97293-4428. Please call BPA at 1-800-622-4519 if you are experiencing technical difficulties uploading your comment or attachments.

FOR FURTHER INFORMATION CONTACT: Summer Goodwin, DKS-7, BPA Communications, Bonneville Power Administration, P.O. Box 3621, Portland, Oregon 97208; by phone toll-free at 1-800-622-4519; or by email to sggoodwin@bpa.gov.

Responsible Official: Kim Thompson, Vice President for Northwest Requirements Marketing is the official responsible for the development of Provider of Choice policies and contracts.

The full text of the draft policy and additional information can be found at the Provider of Choice website: https://www.bpa.gov/energy-and-services/power/provider-of-choice Public meeting information can be found on the BPA Event Calendar: Event Calendar—Bonneville Power Administration (bpa.gov).

Signing Authority: This document of the Department of Energy was signed on July 5, 2023, by John Hairston, Administrator and Chief Executive Officer of the Bonneville Power Administration, pursuant to delegated authority from the Secretary of Energy. That document with the original signature and date is maintained by the Department of Energy. For administrative purposes only, and in compliance with requirements of the Office of the Federal Register, the undersigned Department of Energy Federal Register Liaison Officer has been authorized to sign and submit the document in electronic format for publication, as an official document of the Department of Energy. This administrative process in no way alters the legal effect of this document upon publication in the Federal Register.

Signed in Washington, DC, on July 19, 2023.
Treena V. Garrett,
Federal Register Liaison Officer, U.S. Department of Energy.

[FR Doc. 2023-15606 Filed 7-21-23; 8:45 am]

BILLING CODE 6450-01-P